DEPARTMENT OF ENERGY

Office of Fossil Energy; National Coal Council; Notice of Meeting

AGENCY: Department of Energy.

ACTION: Notice of open meeting.

SUMMARY: This notice announces a meeting of the National Coal Council. Federal Advisory Committee Act (Pub. L. 92-463, 86 Stat. 770) requires notice of these meetings be announced in the Federal Register.

DATES: Wednesday, March 22, 2006, 9 a.m. to 12 noon.

ADDRESSES: Grand Hyatt Hotel, 1000 H Street, NW., Washington, DC.

FOR FURTHER INFORMATION CONTACT: Mr. Robert Kane, Phone: (202) 586-4753, or Ms. Estelle W. Hebron, Phone (202) 586-6837, U.S. Department of Energy, Office of Fossil Energy, Washington, DC 20585.

SUPPLEMENTARY INFORMATION: Purpose of the Committee: The purpose of the National Coal Council is to provide advice, information, and recommendations to the Secretary of Energy on matters relating to coal and coal industry issues:

Tentative Agenda

• Call to Order by Mr. Thomas G. Kraemer, Chairman.

• Remarks by The Honorable Samuel W. Bodman, Secretary of Energy.

• Council Business.

Communications Committee Report—Mr. David Surber, Chair.

Finance Committee Report—Mr. Richard Eimer, Chair.

Discussion re new Education Committee—Ms. Barbara Altizer.

Status Report on New Study—Mr. Greg Boyce/Mr. Fred Palmer.

• Presentation of Guest Speaker re: Energy Legislation by The Honorable James Inhofe, United States Senate (R-OK).

• Presentation of Guest Speaker re: “High Quality Offsets are Climate Solutions”—Mr. Bjorn Fischer, The Climate Trust.

• Presentation of Guest Speaker re: International Emission Trading—Mr. Dirk Forester, Natsource, LLC.

• Presentation of Guest Speaker re: Carbon Sequestration in the Lower Mississippi River Valley—Mr. Larry Seltzer, The Conservation Fund.

• Other Business.

• Adjourn.

Public Participation: The meeting is open to the public. The Chairman of the NCC will conduct the meeting to facility orderly business. If you would like to file a written statement with the Committee, you may do so either before or after the meeting. If you would like to make oral statements regarding any of the items on the agenda, you should contact Mr. Robert Kane or Ms. Estelle Hebron at the address and telephone numbers listed above. You must make your request for an oral statement at lease five business days prior to the meeting, and reasonable provisions will be made to include the presentation on the agenda. Public comment will follow the 10 minute rule. This notice is being published less than 15 days before the date of the meeting due to programmatic issues.

Minutes: The minutes will be available for public review and copying within 30 days at the Freedom of Information Public Reading Room, 1E-190, Forrestal Building, 1000 Independence Avenue, SW., Washington, DC, between 9 a.m. and 4 p.m., Monday through Friday, except Federal holidays.

Issued in Washington, DC, on March 3, 2006.
James N. Solit,
Advisory Committee Management Officer.

[FR Doc. E6-3355 Filed 3-8-06; 8:45 am]

BILLING CODE 6450-01-P